DEPARTMENT OF TRANSPORTATION

Federal Aviation Administration

[Policy Statement No. ANE-2007-35.23-1]

Policy for Electronic Propeller Control Systems, §§ 35.21 and 35.23

AGENCY: Federal Aviation Administration, DOT.

ACTION: Notice of issuance; policy statement.

SUMMARY: The Federal Aviation Administration (FAA) announces the availability of policy for certifying a propeller with an Electronic Propeller Control System (EPCS).

DATES: The FAA issued policy statement number ANE-2007-35.23-1 on August 22, 2007.

FOR FURTHER INFORMATION CONTACT: Jay Turnberg, FAA, Engine and Propeller Standards Staff, ANE-110, 12 New England Executive Park, Burlington, MA 01803; e-mail: jay.turnberg@faa.gov; telephone: (781) 238-7116; fax: (781) 238-7199. The policy statement is available on the Internet at the following address: http://www.faa.gov. (click on the “Regulations and Policies” tab, then “Regulatory and Guidance Library”). If you do not have access to the Internet, you may request a copy of the policy by contacting the individual listed in this section.

SUPPLEMENTARY INFORMATION: The FAA published the policy at http://www.faa.gov/aircraft/draft_docs/ on September 27, 2006 to announce the availability of the proposed policy and invite interested parties to comment.

We have filed in the docket all comments we received, as well as a report summarizing each substantive public contact with FAA personnel concerning this policy. The docket is available for public inspection. If you wish to review the docket in person, go to the above address between 9 a.m. and 5 p.m., Monday through Friday, except Federal holidays.

Background

This FAA policy statement presents one method to obtain approval to certify a propeller with an Electronic Propeller Control System. This guidance may also be used for the development of special conditions that the Administrator may find necessary to establish a level of safety for propellers with an EPCS equivalent to that established by the existing airworthiness standards for propellers with conventional control systems.

Authority: 49 U.S.C. 106(g), 40113, 44701-44702, 44704.

Dated: Issued in Burlington, Massachusetts, on August 22, 2007.
Mark A. Rumizen,
Aircraft Certification Service.

[FR Doc. 07-4230 Filed 8-28-07; 8:45 am]

BILLING CODE 4910-13-M